DEPARTMENT OF DEFENSE

Office of the Secretary

[Docket ID: DoD-2013-OS-0127]

Submission for OMB Review; Comment Request

AGENCY: Defense Finance and Accounting Service (DFAS), DoD.

ACTION: 30-Day notice of submission of information collection approval from the Office of Management and Budget and request for comments.

SUMMARY: As part of an effort to streamline the process to seek feedback from the public on service delivery, DFAS has submitted a Generic Information Collection Request (Generic ICR): “Generic Clearance for the Collection of Qualitative Feedback on Agency Service Delivery ” to OMB for approval under the Paperwork Reduction Act (PRA) (44 U.S.C. 3501 et seq.).

DATES: Comments must be submitted by February 27, 2014.

FOR FURTHER INFORMATION CONTACT: Fred Licari, 571-372-0493.

SUPPLEMENTARY INFORMATION: Title and OMB Number: Generic Clearance for the DFAS Customer Satisfaction Surveys; OMB Control Number 0730-0003.

Needs and Uses: The information collection requirement is necessary to determine the kind and quality of services DFAS customers want and expect, as well as their satisfaction with DFAS's existing services. The information collected will be used internally to determine where and to what extent services are satisfactory and to identify areas for improvement. With the cooperation of the Office of Personnel Management (OPM), DFAS conducts annual Customer Satisfaction Surveys of various customer populations, expected to number 3 separate annual surveys that involve members of the public, administered in May of each year. The surveys are the Contractor Survey, Retiree and Annuitant Survey and Vendor Pay Survey. In addition, an invitation to complete a brief ad-hoc survey is sent out to anyone who either accesses the MyPay system or interacts with a MyPay representative. Survey respondents under this generic clearance may include contractors, vendors, annuitants, and retired civil service employers. A 60-day Federal Reserve Notice was published on August 2, 2013 (78 FR 46928). No public comments were received.

Type of Request: Extension.

Affected Public: Individuals or Households.

Respondent's Obligation: Voluntary.

Annual Estimates

A. Annual Surveys

Expected Annual Number of Activities/Collections: 3.

Annual Number of Respondents: 48,100.

Responses per Respondent: 1.

Annual Number of Responses: 48,100.

Frequency of Response: Annual.

Average Burden per Response: 8 minutes.

Annual Burden Hours: 6,413.

B. Ongoing Ad-Hoc Surveys

Annual Number of Respondents: 17,500.

Responses per Respondent: 1.

Annual Number of Responses: 17,500.

Frequency of Response: On occasion.

Average Burden per Response: 2 minutes.

Annual Burden Hours: 583.

C. Totals

Annual Number of Respondents: 65,600.

Responses per Respondent: 1.

Annual Number of Responses: 65,600.

Frequency of Response: On occasion.

Average Burden per Response: Approximate 6.4 minutes.

Annual Burden Hours: 6,996.

3-Year Estimates: The 3-Year Ceiling for This Generic Collection

A. Annual Surveys

Total Expected Number of Activities/Collections: 9.

Total Number of Respondents: 144,300.

Responses per Respondent: 1.

Total Number of Responses: 144,300.

Frequency of Response: Annual.

Average Burden per Response: 8 minutes.

Total Burden Hours: 19,239.

B. Ongoing Ad-Hoc Surveys

Total Number of Respondents: 52,500.

Responses per Respondent: 1.

Total Number of Responses: 52,500.

Frequency of Response: On occasion.

Average Burden per Response: 2 minutes.

Total Burden Hours: 1749.

C. Totals

Total Number of Respondents: 196,800.

Responses per Respondent: 1.

Total Number of Responses: 196,800.

Frequency of Response: On Occasion.

Average Burden per Response: Approximate 6.4 minutes.

Total Burden Hours: 20,988.

OMB Desk Officer: Ms. Jasmeet Seehra.

Written comments and recommendations on the proposed information collection should be sent to Ms. Jasmeet Seehra at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DoD Clearance Officer: Ms. Patricia Toppings. To request additional information please contact Ms. Toppings, DoD Clearance Officer, at WHS/ESD Information Management Division, 4800 Mark Center Drive, East Tower, Suite 02G09, Alexandria, VA 22350-3100.

Dated: January 23, 2014.
Aaron Siegel,
Alternate OSD Federal Register Liaison Officer, Department of Defense.

[FR Doc. 2014-01601 Filed 1-27-14; 8:45 am]

BILLING CODE 5001-06-P